DEPARTMENT OF HEALTH AND HUMAN SERVICES

ADMINISTRATION FOR CHILDREN AND FAMILIES

Statement of Organization, Functions and Delegations of Authority

AGENCY: Office of Legislative Affairs and Budget (OLAB)/ACF/DHHS.

ACTION: Notice.

SUMMARY: This Notice amends Part K of the Statement of Organization, Functions, and Delegations of Authority of the Department of Health and Human Services (DHHS), Administration for Children and Families (ACF) as follows: Chapter KT, Office of Legislative Affairs and Budget (OLAB), (63 FR 45510), as last amended, August 26, 1998. This notice reflects the consolidation of the two budget divisions in the Office of Legislative Affairs and Budget into one division to improve its efficiency and effectiveness. Specifically, delete Chapter KT in its entirety, and replace with the following:

KT.00 Mission. The Office of Legislative Affairs and Budget (OLAB) provides leadership in the development of legislation, budget, and policy, ensuring consistency in these areas among ACF program and staff offices, and with ACF and the Department's vision and goals. It advises the Assistant Secretary for Children and Families on all policy and programmatic matters, which substantially impact the agency's legislative program, budget development, budget execution and regulatory agenda. The Office serves as the primary contact for the Department, the Executive Branch, and the Congress on all legislative, budget development and execution and regulatory activities.

KT.10 Organization. A Director, who reports to the Assistant Secretary for Children and Families, heads the Office of Legislative Affairs and Budget. The Office is organized as follows: Office of the Director (KTA), Division of Legislative and Regulatory Affairs (KTB), Division of Budget (KTC).

KT.20 Functions. A. The Office of the Director provides direction and executive leadership to the Office of Legislative Affairs and Budget in administering its responsibilities. It serves as the principal advisor to the Assistant Secretary for Children and Families on all policy and programmatic matters which substantially impact on legislative affairs, budget development, budget execution and the regulatory agenda. It represents the Assistant Secretary on budget, policy and legislative matters and serves as the primary ACF contact for the Department, the Executive Branch and Congress on these activities.

B. The Division of Legislative and Regulatory Affairs serves as the focal point for congressional liaison in ACF; provides guidance to the Assistant Secretary for Children and Families and senior ACF staff on congressional activities and relations; manages the preparation of testimony and briefings for programmatic and budget-related hearings; negotiates clearance of testimony; monitors hearings and other congressional activities which affect ACF programs; and responds to congressional inquiries.

The Division manages the ACF legislative planning cycle and the development of Reports to Congress; reviews and analyzes a wide range of congressional policy documents including: legislative proposals, pending legislation, and bill reports; solicits and synthesizes internal ACF comments on such documents; negotiates legislative policy positions with the Department and the Executive Branch; and reviews other policy significant documents to ensure consistency with statutory and congressional intent and the agency legislative agenda.

The Division manages the ACF regulatory development process; negotiates regulatory policy positions with the Department and the Executive Branch; and provides guidance to ACF program and staff components on policy and programmatic matters related to the regulatory development process.

C. The Division of Budget manages the development and presentation of ACF's budget; provides guidance to ACF program and staff components in preparing material in support of budget development; provides guidance to the Assistant Secretary for Children and Families and senior program staff on policy and programmatic matters which substantially impact the budget development process; monitors budget-related hearings and other congressional activities which affect the ACF budget; responds to congressional inquiries on the budget; and, negotiates budget issues with the Department and the Executive Branch.

The Division requests apportionments from OMB for appropriated funds and issues allotments to program and staff offices; manages internal ACF funds control; provides guidance to senior program staff and budget contacts in management of their program and administrative funds; and, assists in reconciling any discrepancies found in CORE accounting reports and data-flow reports.

The Division manages the preparation of a comprehensive administrative (salaries and expenses) budget for ACF; provides guidance to the Assistant Secretary for Children and Families and senior ACF staff on all aspects of the agency's administrative budget; provides guidance to ACF program and staff components in preparing material in support of the administrative budget and tracking and reconciling expenditures throughout the fiscal year to ensure appropriate fiscal accountability and prudent spending patterns.

The Division designs and develops budget estimating modes and procedures to project future program costs in order to influence decision-making regarding ACF program budgets and policy; evaluates on a continuing basis complex national budget issues to assess overall impact on immediate, foreseeable, and long-range program direction; provides guidance to the Assistant Secretary for Children and Families and senior ACF staff on budget forecasts for all major ACF programs; negotiates budget forecasting issues with the Department and the Executive Branch; and responds to Congressional Budget Office, Congressional Research Service and general congressional inquiries regarding ACF budget projections.

The Division reviews and analyzes other policy significant documents to ensure consistency with ACF's budget, vision and goals.

Dated: May 8, 2000.
Madeline Mocko,
Director, Office of Legislative Affairs and Budget.

[FR Doc. 00-11877 Filed 5-10-00; 8:45 am]

BILLING CODE 4184-01-P